DEPARTMENT OF THE INTERIOR

Fish and Wildlife Service

Notice of Issuance of Permit for Marine Mammals

On September 25, 2001, a notice was published in the Federal Register (66 FR 49035), that an application had been filed with the Fish and Wildlife Service by Clayton Green for a permit (PRT-048095) to import one polar bear (Ursus maritimus) taken from the Southern Beaufort Sea population, Canada for personal use.

Notice is hereby given that on November 21, 2001, as authorized by the provisions of the Marine Mammal Protection Act of 1972, as amended (16 U.S.C. 1361 et seq.) the Fish and Wildlife Service authorized the requested permit subject to certain conditions set forth therein.

Documents and other information submitted for these applications are available for review by any party who submits a written request to the U.S. Fish and Wildlife Service, Division of Management Authority, 4401 North Fairfax Drive, Room 700, Arlington, Virginia 22203, telephone (703) 358-2104 or fax (703) 358-2281.

Dated: December 7, 2001.
Monica Farris,
Senior Permit Biologist, Branch of Permits, Division of Management Authority.

[FR Doc. 01-30996 Filed 12-14-01; 8:45 am]

BILLING CODE 4310-55-P